DEPARTMENT OF THE TREASURY

Internal Revenue Service

26 CFR Parts 1 and 602

[TD 9775]

RIN 1545-BN26

Requirement To Notify the IRS of Intent To Operate as a Section 501(c)(4) Organization; Correction

AGENCY: Internal Revenue Service (IRS), Treasury.

ACTION: Final and temporary regulations; correction.

SUMMARY: This document contains a correction to final and temporary regulations (TD 9775) that were published in the Federal Register on July 12, 2016 (81 FR 45008). The final and temporary regulations are relating to the requirement, added by the Protecting Americans from Tax Hikes Act of 2015, that organizations must notify the IRS of their intent to operate under section 501(c)(4) of the Internal Revenue Code.

DATES: This correction is effective on September 23, 2016 and applicable on July 12, 2016.

FOR FURTHER INFORMATION CONTACT: Chelsea Rubin at (202) 317-5800 (not a toll free number).

SUPPLEMENTARY INFORMATION:

Background

The final and temporary regulations (TD 9775) that are the subject of this correction are under section 501(c)(4) of the Internal Revenue Code.

Need for Correction

As published, the final and temporary regulations (TD 9775) contain errors that may prove to be misleading and are in need of clarification.

Correction of Publication

Accordingly, the final and temporary regulations (TD 9775), that are the subject of FR Doc. 2016-16338, is corrected as follows:

1. On page 45010, in the preamble, the first column, the tenth line of the second full paragraph, the language “2016-41, 2016-30 IRB xxxx, which” is corrected to read “2016-41, 2016-30 IRB 165, which”.

2. On page 45010, in the preamble, the third column, under the paragraph heading “5. Separate Procedure by Which an Organization May Request an IRS Determination That It Qualifies for Section 501(c)(4) Exempt Status”, the twenty-first line of the first full paragraph, the language “prescribed in Revenue Procedure 2016-” is corrected to read “prescribed in Rev. Proc. 2016-”.

Martin V. Franks,
Chief, Publications and Regulations Branch, Legal Processing Division, Associate Chief Counsel, (Procedure and Administration).

[FR Doc. 2016-22939 Filed 9-22-16; 8:45 am]

BILLING CODE 4830-01-P